DEPARTMENT OF AGRICULTURE

Forest Service

36 CFR Part 242

DEPARTMENT OF THE INTERIOR

Fish and Wildlife Service

50 CFR Part 100

Western Interior Alaska Federal Subsistence Regional Advisory Council Meeting

AGENCY: Forest Service, Agriculture; Fish and Wildlife Service, Interior.

ACTION: Notice of meeting (teleconference).

SUMMARY: This document informs the public that the Western Interior Alaska Federal Subsistence Regional Advisory Council will hold a public meeting by teleconference on May 14, 2010. The public is invited to participate and to provide oral testimony.

DATES: May 14, 2010, at 11 a.m. For how to participate, please see SUPPLEMENTARY INFORMATION below.

FOR FURTHER INFORMATION CONTACT: Chair, Federal Subsistence Board, c/o U.S. Fish and Wildlife Service, Attention: Peter J. Probasco, Office of Subsistence Management, 1011 East Tudor Road, Anchorage, AK 99503, (907) 786-3888, or via e-mail at subsistence@fws.gov. For questions specific to National Forest System lands, please contact Steve Kessler, Subsistence Program Leader, USDA, Forest Service, 3301 C Street, Suite 202, Anchorage, AK 99503, (907) 743-9461, or via e-mail at skessler@fs.fed.us.

SUPPLEMENTARY INFORMATION: Under section 10(a)(2) of the Federal Advisory Committee Act (5 U.S.C. App.), this document announces a meeting of the Western Interior Alaska Federal Subsistence Regional Advisory Council. The Council will meet to discuss and form recommendations on fish and wildlife issues. This meeting is a follow-up to the Council's February 24-25, 2010, meeting. Completion of the agenda is dependent on the amount of time each item takes.

No preregistration is required and the public is invited to provide testimony. To participate, call toll free 1-877-931-8150; the passcode is 3168014.

Authority: 16 U.S.C. 3, 472, 551, 668dd, 3101-3126; 18 U.S.C. 3551-3586; 43 U.S.C. 1733.

Peter J. Probasco,
Acting Chair, Federal Subsistence Board.
Steve Kessler,
Subsistence Program Leader, USDA-Forest Service.

[FR Doc. 2010-10136 Filed 4-29-10; 8:45 am]

BILLING CODE 3410-11-P; 4310-55-P